DEPARTMENT OF HEALTH AND HUMAN SERVICES

Centers for Disease Control and Prevention

Advisory Committee to the Director (ACD), Centers for Disease Control (CDC) and Prevention—Ethics Subcommittee (ES)

In accordance with section 10(a)(2) of the Federal Advisory Committee Act (Pub. L. 92-463), the Centers for Disease Control and Prevention (CDC) announces the following meeting of the aforementioned subcommittee:

Time and Date: 3 p.m.-4 p.m., November 23, 2009.

Place: Teleconference. To participate, please dial (866) 919-3560 and enter passcode 4168828 for access.

Status: Open to the public; teleconference access limited only by availability of telephone ports. The public is welcome to participate during the public comment period, which is tentatively scheduled from 3:30 p.m. to 3:45 p.m.

Purpose: The Ethics Subcommittee will provide counsel to the ACD, CDC, regarding a broad range of public health ethics questions and issues arising from programs, scientists and practitioners.

Matter to be Discussed: Ethical guidance for ventilator distribution during a severe pandemic. This notice is being published less than 15 days prior to the meeting due to the public health emergency declared on April 26, 2009. There is a critical need for this subcommittee to deliberate and discuss urgent matters related to the H1N1 virus and be actively engaged in the national preparedness and response efforts as dictated by circumstances and events.

The agenda is subject to change as priorities dictate.

Contact Person For More Information: Drue Barrett, Ph.D., Designated Federal Officer, ACD, CDC—ES, 1600 Clifton Road, NE., M/S D-50, Atlanta, Georgia 30333. Telephone: (404) 639-4690. E-mail: dbarrett@cdc.gov.

The Director, Management Analysis and Services Office, has been delegated the authority to sign Federal Register notices pertaining to announcements of meetings and other committee management activities, for both the Centers for Disease Control and Prevention and the Agency for Toxic Substances and Disease Registry.

Dated: November 5, 2009.
Elaine L. Baker,
Director, Management Analysis and Services Office, Centers for Disease Control and Prevention.

[FR Doc. E9-27269 Filed 11-9-09; 4:15 pm]

BILLING CODE 4163-18-P